DEPARTMENT OF COMMERCE

International Trade Administration

(A-549-502)

Circular Welded Carbon Steel Pipes and Tubes from Thailand: Rescission of Antidumping Duty Administrative Review

AGENCY: Import Administration, International Trade Administration, Department of Commerce.

SUMMARY: On March 31, 2008, Saha Thai Steel Pipe (Public) Company, Ltd. (Saha Thai), a Thai manufacturer/exporter, requested that the U.S. Department of Commerce (the Department) conduct an administrative review of its sales during the POR. On April 25, 2008, the Department published a notice of initiation of an administrative review of the antidumping duty order on circular welded carbon steel pipes and tubes from Thailand. The review covers one manufacturer/exporter, Saha Thai. The period of review (POR) is March 1, 2007 through February 29, 2008. Saha Thai withdrew its request on April 23, 2008.

EFFECTIVE DATE: May 23, 2008.

FOR FURTHER INFORMATION CONTACT: Jacqueline Arrowsmith or Myrna Lobo, AD/CVD Operations, Office 6, Import Administration, International Trade, U.S. Department of Commerce, 14th Street and Constitution Avenue, NW., Washington, DC 20230; telephone: (202) 482-5255 or (202) 482-2371, respectively.

SUPPLEMENTARY INFORMATION:

Scope of the Order

The products covered by this antidumping order are certain welded carbon steel pipes and tubes from Thailand. The subject merchandise has an outside diameter of 0.375 inches or more, but not exceeding 16 inches. These products, which are commonly referred to in the industry as “standard pipe” or “structural tubing” are hereinafter designated as “pipes and tubes.” The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for the convenience and purposes of customs and border protection (CBP), our written description of the scope is dispositive.

Rescission of Administrative Review

Pursuant to 19 CFR 351.213(d)(1), the Secretary will rescind an administrative review under this section, in whole or in part, if a party that requested a review withdraws the request within 90 days of the date of publication of the notice of initiation of the requested review. Saha Thai’s request was the sole basis for initiating this administrative review. Saha Thai withdrew its request in a timely fashion. Therefore, in response to Saha Thai’s withdrawal of its request for an administrative review pursuant to 19 CFR 351.213(d)(1) of the Department’s regulations, the Department hereby rescinds the administrative review of the antidumping duty order on circular welded carbon steel pipes and tubes from Thailand. The Department intends to issue assessment instructions to CBP 15 days after the date of publication of this rescission of administrative review.

This notice serves as a reminder to parties subject to administrative protective order (APO) of their responsibility concerning the disposition of proprietary information disclosed under APO in accordance with 19 CFR 351.305(a)(3). Timely written notification of the return or destruction of APO materials or conversion to judicial protective disorder is hereby requested. Failure to comply with the regulations and terms of APO is a sanctionable violation.

This notice is published in accordance with the sections 751(a)(1) and 777(i)(1) of the Tariff Act of 1930, as amended, and 19 CFR 351.213(d)(4).

Dated: May 15, 2008.
Stephen J. Claeys,
Deputy Assistant Secretary for Import Administration.

[FR Doc. E8-11625 Filed 5-22-08; 8:45 am]

BILLING CODE 3510-DS-S